DEPARTMENT OF HEALTH AND HUMAN SERVICES

Administration for Children and Families

45 CFR Part 1355

[Docket #2024-28072]

RIN 0970-AC98

Adoption and Foster Care Analysis and Reporting System; Correction

AGENCY: Children's Bureau (CB), Administration on Children, Youth and Families (ACYF), Administration for Children and Families (ACF), U.S. Department of Health and Human Services (HHS).

ACTION: Final rule; correction.

SUMMARY: ACF is correcting a final rule (FR) that was published in the Federal Register on December 5, 2024, with an effective date of February 3, 2025. This rule finalizes revisions to the Adoption and Foster Care Analysis and Reporting System (AFCARS) regulations proposed on February 23, 2024. This final rule requires state title IV-E agencies to collect and report to ACF additional data related to the Indian Child Welfare Act of 1978 (ICWA) for children in the AFCARS Out-of-Home Care Reporting Population. This correction provides that this final rule will be effective 30 days after its publication in accordance with the Administrative Procedure Act.

DATES: Effective January 4, 2025.

FOR FURTHER INFORMATION CONTACT: Joe Bock, Children's Bureau, (202) 205-8618. Telecommunications Relay users may dial 711 first. Email inquiries to cbcomments@acf.hhs.gov.

SUPPLEMENTARY INFORMATION: In the final rule published December 5, 2024, there was one technical error that is now identified and corrected in this document. The provisions in this correction document are effective as if they had been included in the document published December 5, 2024. Accordingly, the following corrections are effective January 4, 2025.

Corrections to Regulations

In FR Doc. 2024-28072, appearing on page 96569 in the Federal Register of Thursday, December 5, 2024, the following correction is made:

1. On page 96569, in the second column, correct the DATES section to read as follows:.

DATES: This rule is effective on January 4, 2025, except for the amendments to § 1355.44 (amendatory instruction 3), which are effective October 1, 2028.

Elizabeth J. Gramling,
Executive Secretary, Department of Health and Human Services.

[FR Doc. 2024-31238 Filed 12-26-24; 8:45 am]

BILLING CODE P